DEPARTMENT OF THE TREASURY

Internal Revenue Service

26 CFR Parts 1 and 31

[REG-146097-09]

RIN 1545-BJ01

Guidance on Reporting Interest Paid to Nonresident Aliens; Correction

AGENCY: Internal Revenue Service (IRS), Treasury.

ACTION: Correction to notice of proposed rulemaking; notice of a public hearing; and withdrawal of previously proposed rulemaking.

SUMMARY: This document contains corrections to notice of proposed rulemaking; notice of a public hearing; and withdrawal of previously proposed rulemaking (REG-146097-09) that was published in the Federal Register on Friday, January 7, 2011 (76 FR 1105). The proposed regulations provide guidance on the reporting requirements for interest on deposits maintained at U.S. offices of certain financial institutions and paid to nonresident alien individuals.

FOR FURTHER INFORMATION CONTACT: Kathryn Holman at (202) 622-3840 (not a toll-free number).

SUPPLEMENTARY INFORMATION:

Background

The notice of proposed rulemaking; notice of a public hearing; and withdrawal of previously proposed rulemaking that is the subject of this document is under section 6049 of the Internal Revenue Code.

Need for Correction

As published, the notice of proposed rulemaking; notice of a public hearing; and withdrawal of previously proposed rulemaking (REG-146097-09) contains errors that are misleading and are in need of clarification.

Correction to Publication

Accordingly, the notice of proposed rulemaking; notice of a public hearing; and withdrawal of previously proposed rulemaking which is the subject of FR Doc. 2011-82 is corrected as follows:

On page 1105, in the preamble, column 3, under the caption DATES, line 4, the language “public hearing scheduled for April 28,” is corrected to read “public hearing scheduled for April 27,”.

On page 1107, in the preamble, column 2, under the paragraph heading “Comments and Public Hearing”, line 14, the language “for April 28, 2011, beginning at 10 a.m.” is corrected to read “for April 27, 2011, beginning at 10 a.m.”

LaNita VanDyke,
Branch Chief, Publications and Regulations Branch, Legal Processing Division, Associate Chief Counsel, (Procedure and Administration).

[FR Doc. 2011-2922 Filed 2-10-11; 8:45 am]

BILLING CODE 4830-01-P